CORPORATION FOR NATIONAL AND COMMUNITY SERVICE

Agency Information Collection Activities; Submission to the Office of Management and Budget for Review and Approval; Comment Request; Applicant Operational and Financial Survey

AGENCY: Corporation for National and Community Service.

ACTION: Notice of information collection; request for comment.

SUMMARY: The Corporation for National and Community Service, operating as AmeriCorps, has submitted a public information collection request (ICR) entitled Applicant Operational and Financial Survey for review and approval in accordance with the Paperwork Reduction Act.

DATES: Written comments must be submitted to the individual and office listed in the ADDRESSES section by October 4, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling AmeriCorps, Alex Delaney, at 202-528-2705, or by email at ADelaney@americorps.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on May 9, 2024 at 89 FR 39604. The comment period ended July 8, 2024. No public comments were received from that notice.

Title of Collection: Applicant Operational and Financial Survey.

OMB Control Number: 3045-0102.

Type of Review: Renewal.

Respondents/Affected Public: Businesses and Organizations.

Total Estimated Number of Annual Responses: 1,500.

Total Estimated Number of Annual Burden Hours: 3,000.

Abstract: This information collection consists of the questions applicants answer related to operational and financial management when applying for grant funding for a new project or performance period. It is not required for grant continuation or renewal applicants. Applicants respond to the questions included in these instructions when applying for funding in certain grant competitions. AmeriCorps will use the information collection to support pre-award risk assessment of applicants for grant funding. AmeriCorps also seeks to continue using the currently approved information collection until the revised information collection is approved by OMB. The currently approved information collection is due to expire on September 30, 2024.

Caroline Fernandez,
Acting Director, Office of Monitoring.

[FR Doc. 2024-19841 Filed 9-3-24; 8:45 am]

BILLING CODE 6050-28-P